DEPARTMENT OF HOMELAND SECURITY

Federal Emergency Management Agency

[Docket ID FEMA-2012-0003; Internal Agency Docket No. FEMA-B-1282]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 28, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1282, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community Map Repository Address
Commonwealth of Puerto Rico, and Municipalities
Maps Available for Inspection Online at: www.rampp-team.com/pr_vi.htm
Commonwealth of Puerto Rico | Puerto Rico Planning Board, Centro Gubernamental, Roberto Sanchez Vilella, Torre Norte Piso 16 Oficina 1601, Avenida de Diego Esq. Parada 22, Santurce, PR 00940.
Highlands County, Florida, and Incorporated Areas
Maps Available for Inspection Online at: http://www.bakeraecom.com/index.php/florida/highlands/
City of Avon Park | City Hall, 110 East Main Street, Avon Park, FL 33825.
City of Sebring | City Hall, 368 South Commerce Avenue, Sebring, FL 33870.
Town of Lake Placid | Town Hall, 311 West Interlake Boulevard, Lake Placid, FL 33852,
Unincorporated Areas of Highlands County | Highlands County Planning Department, 501 South Commerce Avenue, Sebring, FL 33870.
Kendall County, Illinois, and Incorporated Areas
Maps Available for Inspection Online at: http://www.starr-team.com/starr/RegionalWorkspaces/RegionV/KendallIL
City of Joliet | City Hall, 150 West Jefferson Street, Joliet, IL 60432.
City of Yorkville | City Hall, 800 Game Farm Road, Yorkville, IL 60560.
Unincorporated Areas of Kendall County | Kendall County Planning, Building and Zoning Office, 111 West Fox Street, Yorkville, IL 60560.
Village of Montgomery | Village Hall, 200 North River Street, Montgomery, IL 60538.
Village of Plattville | Kendall County Planning, Building, and Zoning Office, 111 West Fox Road, Yorkville, IL 60560.
Jay County, Indiana, and Incorporated Areas
Maps Available for Inspection Online at: http://www.in.gov/dnr/water/6647.htm
City of Portland | Jay County Department of Building and Planning, Community Resource Center, Suite E, 118 South Meridian Street, Portland, IN 47371.
Town of Pennville | Town Hall, 110 North Washington Street, Pennville, IN 47369.
Town of Redkey | Town Hall, 8927 West State Road 67, Redkey, IN 47373.
Town of Salamonia | Jay County Department of Building and Planning, Community Resource Center, Suite E, 118 South Meridian Street, Portland, IN 47371.
Unincorporated Areas of Jay County | Jay County Department of Building and Planning, Community Resource Center, Suite E, 118 South Meridian Street, Portland, IN 47371.
Coos County, Oregon, and Incorporated Areas
Maps Available for Inspection Online at: http://www.starr-team.com/starr/RegionalWorkspaces/RegionX/coos_county_oregon/Preliminary%20Maps/Forms/AllItems.aspx
City of Bandon | Planning Department, 555 Highway 101, Bandon, OR 97411.
City of Coos Bay | Public Works and Development Department, 500 Central Avenue, Coos Bay, OR 97420.
City of Coquille | City Hall, 851 North Central Boulevard, Coquille, OR 97423.
City of Lakeside | City Hall, 915 North Lake Road, Lakeside, OR 97449.
City of Myrtle Point | City Hall, 424 5th Street, Myrtle Point, OR 97458.
City of North Bend | City Hall, 835 California Street, North Bend, OR 97459.
City of Powers | City Hall, 275 Fir Street, Powers, OR 97466.
Unincorporated Areas of Coos County | Coos County Courthouse, 225 North Adams Street, Coquille, OR 97423.
Kleberg County, Texas, and Incorporated Areas
Maps Available for Inspection Online at: http://riskmap6.com/Community.aspx?cid=386&sid=5
City of Kingsville | City Hall, 200 East Kleberg Avenue, Kingsville, TX 78363.
Unincorporated Areas of Kleberg County | Kleberg County Courthouse, Floodplain Administrator's Office, 700 East Kleberg Avenue, Kleberg, TX 78363
Tarrant County, Texas, and Incorporated Areas
Maps Available for Inspection Online at: http://riskmap6.com/Community.aspx?cid=469&sid=5
City of Arlington | City Hall, 101 West Abram Street, Arlington, TX 76010.
City of Fort Worth | Department of Transportation and Public Works, 1000 Throckmorton Street, Fort Worth, TX 76102.
City of Grand Prairie | City Development Center, 206 West Church Street, Grand Prairie, TX 75050.
City of Haltom City | City Hall, 5024 Broadway Avenue, Haltom City, TX 76117.
City of Hurst | City Hall, 1505 Precinct Line Road, Hurst, TX 76054.
City of North Richland Hills | City Hall, 7301 Northeast Loop 820, North Richland Hills, TX 76180.
City of Richland Hills | City Hall, 3200 Diana Drive, Richland Hills, TX 76118.
City of Saginaw | City Hall, 333 West McLeroy Boulevard, Saginaw, TX 76179.
Town of Edgecliff Village | Town Hall, 1605 Edgecliff Road, Edgecliff Village, TX 76134.
Unincorporated Areas of Tarrant County | Tarrant County Administrative Building, Public Works Department, 100 East Weatherford Street, Fort Worth, TX 76196.
Grays Harbor County, Washington, and Incorporated Areas
Maps Available for Inspection Online at: http://www.starr-team.com/starr/RegionalWorkspaces/RegionX/GraysHarborMM/Preliminary%20Maps/Forms/AllItems.aspx
Chehalis Reservation, Confederated Tribes of | Chehalis Travel Center, 420 Howanut Road, Oakville, WA 98568.
City of Aberdeen | City Hall, 200 East Market Street, Aberdeen, WA 98520.
City of Cosmopolis | City Hall, 1300 1st Street, Cosmopolis, WA 98537.
City of Elma | City Hall, 202 West Main Street, Elma, WA 98541.
City of Hoquiam | City Hall, 609 8th Street, Hoquiam, WA 98550.
City of McCleary | City Hall, 100 South 3rd Street, McCleary, WA 98557.
City of Montesano | City Hall, 112 North Main Street, Montesano, WA 98563.
City of Oakville | City Hall, 204 East Main Street, Oakville, WA 98568.
City of Ocean Shores | Planning and Permits Building, 710 Point Brown Avenue Southeast, Ocean Shores, WA 98569.
City of Westport | City Hall, 740 North Montesano Street, Westport, WA 98595.
Unincorporated Areas of Grays Harbor County | Grays Harbor County Division of Emergency Management, 310 West Spruce Street, Suite 212, Montesano, WA 98563.

(Catalog of Federal Domestic Assistance No. 97.022, “Flood Insurance.”)

James A. Walke,
Acting Deputy Associate Administrator for Mitigation, Department of Homeland Security, Federal Emergency Management Agency.

[FR Doc. 2012-31305 Filed 12-27-12; 8:45 am]

BILLING CODE 9110-12-P